DEPARTMENT OF TRANSPORTATION

Office of the Secretary

[Docket No. DOT-OST-2018-0190]

Aviation Consumer Protection Advisory Committee: Notice of Solicitation of Nominations for Appointment for the Anti-Discrimination Subcommittee

AGENCY: Office of the Secretary (OST), Department of Transportation (DOT).

ACTION: Solicitation of nominations for appointment for the Anti-Discrimination Subcommittee.

SUMMARY: The U.S. Department of Transportation (Department) has established a subcommittee of the Aviation Consumer Protection Advisory Committee (ACPAC) to focus on preventing discrimination and ensuring air travelers are treated equally and without bias. The Department invites interested persons to submit applications or nominations for membership to this subcommittee, which has been named the Anti-Discrimination Subcommittee. The Anti-Discrimination Subcommittee is charged with making recommendations to the ACPAC on best practices related to training and other practices or actions that can be taken by DOT, airlines or others to ensure nondiscriminatory delivery of airlines' programs and activities to air travelers. The recommendations of the Anti-Discrimination Subcommittee will receive full review, deliberation and proper consideration in a public meeting of the ACPAC before final recommendations are submitted to the Department.

DATES: Applications and nominations for membership must be received on or before September 20, 2021. You may submit your applications and nominations electronically via email to ACACP@dot.gov.

FOR FURTHER INFORMATION CONTACT: For further information, please contact Maegan Johnson, Senior Trial Attorney, U.S. Department of Transportation, by email at maegan.johnson@dot.gov, or by telephone at 202-366-9342.

SUPPLEMENTARY INFORMATION:

Background

On May 24, 2012, the Department established an advisory committee on aviation consumer protection as mandated by the FAA Reauthorization Act of 2012. The statutory termination date for the Committee was originally September 30, 2015, but has been extended several times, most recently by the FAA Reauthorization Act of 2018 (2018 FAA Act) to the current termination date of September 20, 2023. The purpose of the Aviation Consumer Protection Advisory Committee is to evaluate existing aviation consumer protection programs and provide recommendations to the Secretary for improving and establishing additional aviation consumer protection programs. Consumer protection inherently includes preventing unlawful discrimination against consumers.

Establishment of the Anti-Discrimination Subcommittee

Airlines are prohibited from discriminating against passengers based on race, national origin, religion, ancestry, gender, gender identity and sexual orientation or as otherwise prohibited under 49 U.S.C. 40127(a) and 49 U.S.C. 41310. 49 U.S.C. 40127(a) states that U.S. and foreign air carriers may not subject a person in air transportation to discrimination because of “race, color, national origin, religion, sex, or ancestry.” In addition, 49 U.S.C. 41310(a) prohibits U.S. and foreign airlines from unreasonable discrimination against any person in foreign air transportation. The Department also interprets 49 U.S.C. § 41712 (which prohibits airlines and ticket agents from engaging in unfair and deceptive practices and unfair methods of competition) and 49 U.S.C. 41702 (which requires airlines to provide safe and adequate interstate air transportation) as prohibiting discrimination against airline passengers. The Department is responsible for ensuring that airlines adhere to Federal non-discrimination laws.

The 2018 FAA Act requires the Department to develop best practices to improve airline nondiscrimination training policies in consultation with persons of diverse backgrounds in race, ethnicity, religion and gender, national organizations that represent those communities, airlines, airports and contract service providers. To help inform this effort, in August 2019, the U.S. Government Accountability Office (GAO) issued a report identifying key considerations for airline non-discrimination training programs.

In January 2021, President Biden renewed the Federal government's commitment to civil rights and directed Federal agencies to address all forms of discrimination. The Executive Order on Advancing Racial Equity and Support for Underserved Communities Through the Federal Government (E.O. 13985) requires Federal agencies to recognize and work to redress inequities in their policies and programs, assess whether the agency's programs and policies perpetuate systemic barriers to opportunities and benefits for people of color and other underserved groups, and assess whether new policies, regulations, or guidance documents may be necessary to advance equity in agency actions and programs. The Executive Order on Preventing and Combating Discrimination on the Basis of Gender Identity or Sexual Orientation (E.O. 13988) requires Federal agencies to conduct a review of regulations, guidance, and other agency actions that prohibit sex discrimination and consider whether to revise, suspend, or rescind such actions or promulgate new actions, to ensure that laws that prevent discrimination on the basis of gender identity or sexual orientation are fully implemented and enforced. Also, the Presidential Memorandum Condemning and Combating Racism, Xenophobia, and Intolerance against Asian Americans and Pacific Islanders (January 29 Memorandum) requires Federal agencies to take steps to ensure that official actions, documents, and statements pertaining to the COVID-19 pandemic do not exhibit or contribute to racism, xenophobia, and intolerance against members of Asian American and Pacific Islander communities.

The Department has established the Anti-Discrimination Subcommittee under the ACPAC to review airlines' policies, procedures, and practices to prevent discrimination against air travelers on the basis of race, national origin, religion, ancestry and gender, gender identity, and sexual orientation. The Department will select the following entities and diverse persons to serve on the Anti-Discrimination Subcommittee: Persons of diverse backgrounds in race, ethnicity, religion and gender; lesbian, gay, bisexual, transgender, queer (LGBTQ+) persons; national organizations that represent diverse racial, ethnic, and religious communities; national organizations that represent LGBTQ+ communities, airlines, airport operators, contract service providers, and ticket agents. The Anti-Discrimination Subcommittee is tasked with providing recommendations to the ACPAC on best practices related to civil rights training and other practices or actions that can be taken by DOT, airlines or others to ensure nondiscriminatory delivery of airlines' programs and activities to air travelers in accordance with section 407 of the 2018 FAA Act, Executive Orders 13985 and 13988, and President Biden's January 29 Memorandum. Meetings will be held in person in Washington, DC and/or through a publicly accessible virtual format.

Selection of Members to Anti-Discrimination Subcommittee

The Department will choose Anti-Discrimination Subcommittee members based on three main criteria: (1) Representativeness (does the applicant represent the airline industry, any group with members who have experienced discrimination on the basis of race, national origin, religion, ancestry, gender, gender identity, sexual orientation or an otherwise prohibited category under Federal law, or other interested parties such as airports or ticket agents?); (2) expertise (does the applicant bring essential knowledge, expertise and/or experience regarding aviation civil rights and the topic area(s) of interest that will enrich the discussion of the available options and their respective costs and benefits?); and (3) willingness to participate fully (is the applicant able and willing to attend meetings and generally contribute constructively to a rigorous policy development process?). The Department may select more than one representative for a group, if appropriate, to obtain balanced membership.

Individuals applying for membership should keep in mind that Anti-Discrimination Subcommittee members will be selected based on their ability and willingness to effectively represent the interests of all stakeholders in their category, as distinct from their parochial or personal interests. For example, an individual selected to serve on the Anti-Discrimination Subcommittee as a representative of an airline would represent not only his or her own airline, but the interests of all airlines. As such, the individual would be expected to consult with other airlines in bringing issues to the table before the Anti-Discrimination Subcommittee.

All interested individuals may self-apply or nominate any individual or organization to the Anti-Discrimination Subcommittee. To be considered, applicants/nominators should submit the following information:

• Name, title, organization, and contact information (address, telephone number and email address) of nominee/applicant;

• Category of membership that the nominee/applicant is qualified to represent;

• Resume of the applicant or short biography of the nominee including professional and academic credentials;

• A statement of nomination on why the applicant wants to serve or the nominator is nominating the individual to serve, and the unique perspectives and experiences the nominee brings to the Committee;

• An affirmative statement that the applicant/nominee meets the eligibility requirements; and

• Optional letters of support.

Please do not send company, trade association, organization brochures, or any other promotional information. Materials submitted should total five pages or less. Should more information be needed, Department staff will contact the applicant/nominee, obtain information from the applicant's/nominee's past affiliations, or obtain information from publicly available sources. All application/nomination materials should be submitted electronically via email at ACACP@dot.gov on or before September 20, 2021. Any person needing accessibility accommodations with preparing and/or submitting nominations should contact Maegan Johnson, Senior Trial Attorney, U.S. Department of Transportation, by email at maegan.johnson@dot.gov, or by telephone at 202-366-9342.

Persons selected for appointment to the Anti-Discrimination Subcommittee will be notified by return email and by a letter of appointment. Members of the Anti-Discrimination Subcommittee are responsible for their own travel and per diem expenses.

John E. Putnam,
Acting General Counsel.

[FR Doc. 2021-17749 Filed 8-18-21; 8:45 am]

BILLING CODE P